DEPARTMENT OF HOMELAND SECURITY

Office of the Secretary, US-VISIT

[DHS-2007-0049]

Privacy Act of 1974; US-VISIT; Arrival and Departure Information System (ADIS) System of Records

AGENCY: Privacy Office; Department of Homeland Security.

ACTION: Privacy Act system of records notice.

SUMMARY: The Department of Homeland Security (DHS) is republishing the Privacy Act system of records notice (SORN) for the Arrival and Departure Information System (ADIS) in order to expand its authority and capability to serve additional programs that require information on individuals throughout the immigrant and non-immigrant pre-entry, entry, status management, and exit processes. These changes include the addition of a routine use to allow for sharing of information with the intelligence community in support of the DHS mission to protect the United States from potential terrorist activities; the addition of a routine use for cases of identity theft; clarification on the sources of data in ADIS, potentially including foreign governments; and a reduction of the retention period for ADIS data.

DATES: Written comments must be submitted on or before September 21, 2007

ADDRESSES: You may submit comments, identified by Docket Number DHS-2007-0049, by one of the following methods:

• Federal e-Rulemaking Portal: http://www.regulations.gov. Follow the instructions for submitting comments.

• Fax: 1-866-466-5370.

• Mail: Hugo Teufel, III, DHS Chief Privacy Officer, Department of Homeland Security, Washington, DC 20528.

• Instructions: All submissions received must include the agency name and docket number for this system of records notice. All comments received will be posted without change to http://www.regulations.gov, including any personal information provided.

• Docket: For access to the docket to read background documents or comments received go to http://www.regulations.gov.

FOR FURTHER INFORMATION CONTACT: Claire Miller, Acting US-VISIT Privacy Officer, U.S. Department of Homeland Security, Washington, DC 20538, by telephone (202) 298-5200 or by facsimile (202) 298-5201. For privacy issues, please contact: Hugo Teufel III (703-235-0780), Chief Privacy Officer, Privacy Office, U.S. Department of Homeland Security, Washington, DC 20528; telephone (703) 235-0780.

SUPPLEMENTARY INFORMATION: In accordance with the Privacy Act of 1974, 5 U.S.C. 552a, the Department of Homeland Security (DHS) is publishing a revision to existing Privacy Act system of records known as the Arrival and Departure Information System (ADIS). The notice for this system of records was last published in the Federal Register on December 12, 2003 (68 FR 69412).

ADIS is a system for the storage and use of biographic, biometric indicator, and encounter data on aliens who have applied for entry, entered, or departed the United States. ADIS consolidates information from various systems in order to provide a repository of data held by DHS for pre-entry, entry, status management, and exit tracking of immigrants and non-immigrants. Its primary use is to facilitate the investigation of subjects of interest who may have violated their immigration status by remaining in the United States beyond their authorized stay. The information is collected by, on behalf of, in support of, or in cooperation with DHS and its components and may contain personally identifiable information collected by other Federal, state, local, tribal, foreign, or international government agencies.

Information stored in ADIS may be shared with other DHS components, as well as appropriate Federal, state, local, tribal, foreign, or international government agencies. Internal and external agencies (including intelligence agencies) will have access to the full range of ADIS data once they have established that they will use the information for a purpose which is compatible with the purpose of the original collection.

This system of records notice (SORN) is primarily being revised to add a routine use to cover sharing of ADIS data with intelligence agencies in support of the DHS mission to identify and prevent acts of terrorism against the United States. Additionally, a routine use is being added to address identity theft issues. The category and sources of records sections were revised to clearly indicate that some data may come from foreign governments. Finally, the retention period is proposed to be reduced from 100 to 75 years in order to conform with other immigration-related SORNs.

Elsewhere in today's Federal Register, DHS has published a notice of proposed rulemaking (NPRM) to exempt portions of this system of records from one or more provisions of the Privacy Act because of criminal, civil, and administrative enforcement requirements pursuant to 5 U.S.C. 552a(j)(2) and (k)(2).

The Privacy Act embodies fair information principles in a statutory framework governing the means by which the United States Government collects, maintains, uses and disseminates personally identifiable information. The Privacy Act applies to information that is maintained in a “system of records.” A “system of records” is a group of any records under the control of an agency from which information is retrieved by the name of an individual or by some identifying number such as property address, or mailing address symbol, assigned to the individual. The ADIS is such a “system of records.”

The Privacy Act requires each agency to publish in the Federal Register a description denoting the type and character of each system of records that the agency maintains, and the routine uses that are contained in each system in order to make agency recordkeeping practices transparent, to notify individuals regarding the uses to which personally identifiable information is put, and to assist individuals to more easily find such files within the agency.

In accordance with 5 U.S.C. 552a(r), DHS has provided a report of this system change to the Office of Management and Budget and to Congress.

DHS/USVISIT-001

System name:

Arrival and Departure Information System (ADIS).

System location:

Department of Homeland Security (DHS).

Categories of individuals covered by the system:

Categories of individuals covered by this notice consist of aliens who have applied for entry, entered, or departed from the United States at any time. These individuals may be in records collected by DHS or other Federal, state, local, tribal, foreign, or international government organizations. This system primarily consists of records pertaining to alien immigrants (including lawful permanent residents) and non-immigrants. Some of these individuals may change status and become United States citizens.

Categories of records in the system:

ADIS contains biographic data, biometric indicator data, and encounter data. Biographic data includes, but is not limited to, name, date of birth, nationality, and other personal descriptive data. Biometric indicator data includes, but is not limited to, fingerprint identification numbers. Encounter data provides the context of the interaction between the immigrant or non-immigrant and the border management authority. This data includes, but is not limited to, encounter location, document types, document numbers, document issuance information, and address while in the United States.

ADIS also sometimes contains commentary from immigration enforcement officers which includes references to active criminal and other immigration enforcement investigations and contains other confidential data fields used for enforcement purposes.

ADIS data may be derived from records related to entry or exit data of foreign countries collected by foreign governments in support of their respective entry and exit processes; however, records collected from foreign governments must relate to individuals who have entered or exited the United States at any time, i.e., individuals who have an existing record in ADIS.

Authority for maintenance of the system:

6 U.S.C. 202; 8 U.S.C. 1103, 1158, 1201, 1225, 1324, 1357, 1360, 1365a, 1365b, 1372, 1379, and 1732.

Purpose(s):

This system of records is the primary repository of data held by DHS for near real-time entry and exit status tracking throughout the immigrant and non-immigrant pre-entry, entry, status management, and exit processes, based on data collected by DHS or other Federal or foreign government agencies and used in connection with DHS national security, law enforcement, immigration, intelligence, and other DHS mission-related functions. Data is also used to provide associated testing, training, management reporting, planning and analysis, or other administrative purposes. Similar data may be collected from multiple sources to verify or supplement existing data and to ensure a high degree of data accuracy.

Specifically, the ADIS data will be used to identify lawfully admitted non-immigrants who remain in the United States beyond their period of authorized stay, which may have a bearing on an individual's right or authority to remain in the country or to receive governmental benefits; to assist DHS in supporting immigration inspection at ports of entry (POEs) by providing quick retrieval of biographic and biometric indicator data on individuals who may be inadmissible to the United States; and to facilitate the investigation process of individuals who may have violated their immigration status or may be subjects of interest for law enforcement or intelligence purposes.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3), limited by privacy impact assessments, data sharing, or other agreements, as follows:

A. To appropriate Federal, state, local, tribal, foreign, or international governmental agencies seeking information on the subjects of wants, warrants, or lookouts, or any other subject of interest, for purposes related to administering or enforcing the law, national security, or immigration, where consistent with a DHS mission-related function as determined by DHS.

B. To appropriate Federal, state, local, tribal, foreign, or international government agencies charged with national security, law enforcement, immigration, intelligence, or other DHS mission-related functions in connection with the hiring or retention by such an agency of an employee, the issuance of a security clearance, the reporting of an investigation of such an employee, the letting of a contract, or the issuance of a license, grant, loan, or other benefit by the requesting agency.

C. To an actual or potential party or to his or her attorney for the purpose of negotiation or discussion on such matters as settlement of a case or matter, or discovery proceedings.

D. To a Congressional office from the record of an individual in response to an inquiry from that Congressional office made at the request of the individual to whom the record pertains.

E. To the National Archives and Records Administration (NARA) or other Federal government agencies pursuant to records management inspections being conducted under the authority of 44 U.S.C. 2904 and 2906.

F. To contractors, grantees, experts, consultants, students, and others performing or working on a contract, service, grant, cooperative agreement, or other assignment for the Federal government, when necessary to accomplish a DHS mission function related to this system of records in compliance with the Privacy Act of 1974.

G. To appropriate agencies, entities, and persons when: (1) It is suspected or confirmed that the security or confidentiality of information in the system of records has been compromised; (2) DHS has determined that, as a result of the suspected or confirmed compromise, there is a risk of harm to economic or property interests, identity theft or fraud, or harm to the security or integrity of this system or other systems or programs (whether maintained by DHS or another agency or entity) that rely upon the compromised information; and (3) the disclosure is made to such agencies, entities, and persons who are reasonably necessary to assist in DHS's efforts to respond to the suspected or confirmed compromise and prevent, minimize, or remedy such harm.

H. To Federal, state, local, tribal, foreign or international government intelligence or counterterrorism agencies or components where DHS becomes aware of an indication of a threat or potential threat to national or international security, or where such use is to assist in anti-terrorism efforts and disclosure is appropriate to the proper performance of the official duties of the person making the disclosure.

Policies and practices for storing, retrieving, accessing, retaining, and disposing of records in the system:

Storage:

Records are stored in a central computer database.

Retrievability:

Records may be retrieved by a variety of data elements including, but not limited to, name, place and date of arrival or departure, document number, and fingerprint identification number.

Safeguards:

Information in this system is safeguarded in accordance with applicable laws, rules, and policies, including the DHS Information Technology Security Program Handbook. All records are protected from unauthorized access through appropriate administrative, physical, and technical safeguards. These safeguards include restricting access to authorized personnel who have a need to know, using locks, and password protection identification features. DHS file areas are locked after normal duty hours, and the facilities are protected from the outside by security personnel.

Retention and disposal:

The following proposal for retention and disposal is pending approval with the National Archives and Records Administration (NARA): Testing and training data will be purged when the data is no longer required. Electronic records for which the statute of limitations has expired for all criminal violations or that are older than 75 years, whichever is longer, will be purged.

System manager(s) and address:

ADIS System Manager, US-VISIT Program, U.S. Department of Homeland Security, Washington, DC 20528.

Notification procedure:

To determine whether this system contains records relating to you, write to the US-VISIT Privacy Officer, US-VISIT Program, U.S. Department of Homeland Security, Washington, DC 20528.

Record access procedures:

This system is exempted from this requirement pursuant to 5 U.S.C. 552a(j)(2) and (k)(2). An individual who is the subject of a record in this system may be provided access. A determination whether a record may be accessed will be made at the time a request is received. DHS will review and comply appropriately with information requests on a case-by-case basis. An individual desiring copies of records maintained in this system should direct his or her request to the FOIA Officer, US-VISIT Program, U.S. Department of Homeland Security, Washington, DC 20528.

Contesting record procedures:

This system is exempted from this requirement pursuant to 5 U.S.C. 552a(j)(2) and (k)(2). An individual who is the subject of a record in this system may be provided access. A determination whether a record may be accessed will be made at the time a request is received. DHS will review and comply appropriately with information requests on a case-by-case basis. Requests for correction of records in this system may be made through the Traveler Redress Inquiry Program (TRIP) at http://www.dhs.gov/trip or via mail, facsimile, or e-mail in accordance with instructions available at http://www.dhs.gov/trip.

Record source categories:

Basic information contained in this system is supplied by individuals covered by this system and other Federal, state, local, tribal, or foreign governments; private citizens; and public and private organizations.

ADIS data may be derived from records related to entry or exit data of foreign countries collected by foreign governments in support of their respective entry and exit processes; however, records collected from foreign governments must relate to individuals who have entered or exited the United States at some time, i.e., have an existing record in ADIS.

Exemptions claimed for the system:

The Secretary of Homeland Security has exempted this system from 5 U.S.C. 552a(c)(3) and (4); (d); (e)(1), (e)(2), (e)(3), (e)(4)(G), (e)(4)(H), (e)(5), (e)(8); (f); and (g) pursuant to 5 U.S.C. 552a(j)(2). In addition, the Secretary of Homeland Security has exempted portions of this system from 5 U.S.C. 552a (c)(3); (d); (e)(1), (e)(4)(G), (e)(4)(H); and (f) pursuant to 5 U.S.C. 552a (k)(2). These exemptions apply only to the extent that records in the system are subject to exemption pursuant to 5 U.S.C. 552a(j)(2) and (k)(2).

Dated: August 15, 2007
John Kropf,
Acting Chief Privacy Officer.

[FR Doc. E7-16473 Filed 8-21-07; 8:45 am]

BILLING CODE 4410-10-P